DEPARTMENT OF TRANSPORTATION

Federal Aviation Administration

14 CFR Part 39

[Docket No. FAA-2007-27193; Directorate Identifier 2007-CE-009-AD; Amendment 39-15091; AD 2007-12-13]

RIN 2120-AA64

Airworthiness Directives; Viking Air Limited (Type Certificate No. A-806 Previously Held by deHavilland Inc.) Models DHC-2 Mk. I, DHC-2 Mk. II, and DHC-2 Mk. III Airplanes

AGENCY: Federal Aviation Administration (FAA), Department of Transportation (DOT).

ACTION: Final rule.

SUMMARY: We are superseding an existing airworthiness directive (AD) for the products listed above. This AD results from mandatory continuing airworthiness information (MCAI) issued by an aviation authority of another country to identify and correct an unsafe condition on an aviation product. The MCAI describes the unsafe condition as:

A report has been received of stress corrosion cracking occurring in the wing lift strut lower clevis fitting, part number C2W-1097A.

We are issuing this AD to require actions to correct the unsafe condition on these products.

DATES: This AD becomes effective July 16, 2007.

On July 16, 2007 the Director of the Federal Register approved the incorporation by reference of certain publications listed in this AD.

ADDRESSES: You may examine the AD docket on the Internet at http://dms.dot.gov or in person at the Docket Management Facility, U.S. Department of Transportation, Docket Operations, M-30, West Building Ground Floor, Room W12-140, 1200 New Jersey Avenue, SE., Washington, DC 20590.

FOR FURTHER INFORMATION CONTACT: George J. Duckett, Aerospace Engineer, FAA, New York Aircraft Certification Office, 10 Fifth Street, Valley Stream, New York 11581; telephone: (516) 228-7325; fax: (516) 794-5531.

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on March 22, 2007 (72 FR 13448) and proposed to supersede AD 88-08-02, Amendment 39-5889. That NPRM proposed to correct an unsafe condition for the specified products. The MCAI states:

A report has been received of stress corrosion cracking occurring in the wing lift strut lower clevis fitting, part number C2W-1097A.

This AD revision is being issued to allow operators the option of continuing with the existing inspection intervals in accordance with CF-85-08R3 (Part A) or incorporating the improved alternate inspection method in accordance with Part B, to permit an increase in inspection intervals.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

We estimate that this AD will affect 392 products of U.S. registry. We also estimate that it will take about 7 work-hours per product to comply with basic requirements of this AD. The average labor rate is $80 per work-hour. Based on these figures, we estimate the cost of this AD to the U.S. operators to be $219,520, or $560 per product.

In addition, we estimate that any necessary follow-on actions will take about 7 work-hours and require parts costing $6,227 for each wing strut assembly, for a cost of $6,787 per wing strut assembly. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 88-08-02, Amendment 39-5889, and adding the following new AD:

2007-12-13 Viking Air Limited (Type Certificate No. A-806 previously held by deHavilland Inc.): Amendment 39-15091; Docket No. FAA-2007-27193; Directorate Identifier 2007-CE-009-AD.

Effective Date

(a) This airworthiness directive (AD) becomes effective July 16, 2007.

Affected ADs

(b) This AD supersedes AD 88-08-02, Amendment 39-5889.

Applicability

(c) This AD applies to Models DHC-2 Mk. I, DHC-2 Mk. II, and DHC-2 Mk. III airplanes, all serial numbers, that:

(1) Are certificated in any category; and

(2) Are equipped with wing lift strut assemblies, part numbers (P/Ns) C2W1103, C2W1103A, C2W1104, or C2W1104A.

Subject

(d) Air Transport Association of America (ATA) Code 57: Wings.

Reason

(e) The mandatory continuing airworthiness information (MCAI) states:

A report has been received of stress corrosion cracking occurring in the wing lift strut lower clevis fitting, part number C2W-1097A.

This AD revision is being issued to allow operators the option of continuing with the existing inspection intervals in accordance with CF-85-08R3 (Part A) or incorporating the improved alternate inspection method in accordance with Part B, to permit an increase in inspection intervals.

Restatement of Requirements of AD 88-08-02

(f) For all Models DHC-2 Mk. I and DHC-2 Mk. III airplanes certificated in any category that are equipped with wing lift strut assemblies, P/Ns C2W1103, C2W1103A, C2W1104, or C2W1104A: Within the next 100 hours time-in-service (TIS) after May 11, 1988 (the effective date of AD 88-08-02) or one month after May 11, 1988 (the effective date of AD 88-08-02), whichever occurs first, and thereafter at intervals not to exceed 500 hours TIS or 12 calendar months, whichever occurs first, do the following:

(1) Remove the wing lift strut assemblies, P/Ns C2W1103 or C2W1103A and C2W1104 or C2W1104A from the airplane and prepare the assemblies for inspection as described in the “ACCOMPLISHMENT INSTRUCTIONS” section of DeHavilland Service Bulletin (S/B) No. 2/41, Revision A, dated August 14, 1987.

(2) Conduct a dye penetrant inspection with a 10-power glass for cracks in the lugs of the lower attachment clevis fitting.

(3) If cracks are found, before further flight, replace the complete wing lift strut assembly with a:

(i) Wing lift strut assembly of the same part number that has had the lower clevis fitting inspected using the dye penetrant procedure and has been found free of cracks; or

(ii) Wing lift strut assembly, P/N C2W1115-1 or P/N C2W1115-2, as appropriate.

(4) If no cracks are found, before further flight, clean the lower clevis fitting and reinstall the wing lift strut assembly.

(5) If wing strut assembly P/N C2W1115-1 or P/N C2W1115-2 is installed, the recurring inspection specified in paragraph (f) of this AD is no longer required.

New Requirements of This AD: Actions and Compliance

(g) Unless already done, do either (1) or (2) of the following actions:

(1) Inspection using fluorescent penetrant method: Perform the Accomplishment Instructions of Viking Air Ltd. Service Bulletin No. 2/41, Revision C, dated June 23, 2006.

(i) For airplanes previously affected by AD 88-08-02: Inspect the wing lift strut assemblies within the next 12 calendar months after the last inspection required by AD 88-08-02 or within the next 30 days after July 16, 2007 (the effective date of this AD), whichever occurs later, and thereafter at intervals not to exceed 12 calendar months.

(ii) For airplanes not previously affected by AD 88-08-02: Inspect the wing lift strut assemblies within the next 100 hours time-in-service (TIS) after July 16, 2007 (the effective date of this AD) or within the next 12 calendar months after July 16, 2007 (the effective date of this AD), whichever occurs first, and thereafter at intervals not to exceed 12 calendar months.

(2) Inspection using eddy current method: Perform the Accomplishment Instructions of Viking Air Ltd. SB No. 2/55, dated June 23, 2006.

(i) For airplanes previously affected by AD 88-08-02: Inspect the wing lift strut assemblies within the next 12 calendar months after the last inspection required by AD 88-08-02 or within the next 30 days after July 16, 2007 (the effective date of this AD), whichever occurs later, and thereafter at intervals not to exceed 24 calendar months.

(ii) For airplanes not previously affected by AD 88-08-02: Inspect the wing lift strut assemblies within the next 100 hours TIS after July 16, 2007 (the effective date of this AD) or within the next 12 calendar months after July 16, 2007 (the effective date of this AD), whichever occurs first, and thereafter at intervals not to exceed 24 calendar months.

(3) If cracks are found during any inspection required by either paragraph (g)(1) or (g)(2) of this AD, before further flight:

(i) Replace the complete wing lift strut assembly with a wing lift strut assembly of the same part number that has had the lower clevis fitting inspected using either the fluorescent penetrant method specified in paragraph (g)(1) of this AD or the eddy current method specified in paragraph (g)(2) of this AD and is found free of cracks. After replacement, continue with the repetitive inspections specified in paragraphs (g)(1) and (g)(2) of this AD; or

(ii) Replace the complete wing lift strut assembly with strut assembly C2W1115-1 or C2W1115-2, as appropriate. Installing wing strut assembly C2W1115-1 or C2W1115-2 as replacement parts terminates the repetitive inspections required in paragraphs (g)(1) and (g)(2) of this AD.

(4) If no cracks are found during any inspection required in paragraphs (g)(1) or (g)(2) of this AD, before further flight, clean the lower clevis fitting and reinstall the wing strut assembly. After reinstallation, continue with the repetitive inspections specified in paragraphs (g)(1) and (g)(2) of this AD.

FAA AD Differences

Note: This AD differs from the MCAI and/or service information as follows: No differences.

Other FAA AD Provisions

(h) The following provisions also apply to this AD:

(1) Alternative Methods of Compliance (AMOCs): The Manager, New York Aircraft Certification Office, FAA, if requested using the procedures found in 14 CFR 39.19. Send information to ATTN: George J. Duckett, Aerospace Engineer, 10 Fifth Street, Valley Stream, New York 11581; telephone: (516) 228-7325; fax (516) 794-5531, has the authority to approve AMOCs for this AD. Before using any approved AMOC on any airplane to which the AMOC applies, notify your appropriate principal inspector (PI) in the FAA Flight Standards District Office (FSDO), or lacking a PI, your local FSDO.

(2) AMOCs approved for AD 88-08-02 are not approved for this AD.

(3) Airworthy Product: For any requirement in this AD to obtain corrective actions from a manufacturer or other source, use these actions if they are FAA-approved. Corrective actions are considered FAA-approved if they are approved by the State of Design Authority (or their delegated agent). You are required to assure the product is airworthy before it is returned to service.

(4) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Transport Canada AD CR-1985-08R4, dated September 28, 2006; Viking Service Bulletin No. 2/41, Revision “C”, dated June 23, 2006; and Viking Service Bulletin No. 2/55, dated June 23, 2006; for related information.

Material Incorporated by Reference

(j) You must use Viking Service Bulletin DHC-2 MK I, MK II and MK III Turbo Beaver Service Bulletin No. 2/41, Revision C, dated June 23, 2006; or Viking DHC-2 Beaver Service Bulletin No. 2/55, dated June 23, 2006, to do the actions required by this AD, unless the AD specifies otherwise.

(1) The Director of the Federal Register approved the incorporation by reference of this service information under 5 U.S.C. 552(a) and 1 CFR part 51.

(2) For service information identified in this AD, contact Viking Air Limited, 9584 Hampden Rd., Sidney, BC, Canada, V8L 5V5; telephone: (250) 656-7227.

(3) You may review copies at the FAA, Central Region, Office of the Regional Counsel, 901 Locust, Room 506, Kansas City, Missouri 64106; or at the National Archives and Records Administration (NARA). For information on the availability of this material at NARA, call 202-741-6030, or go to: http://www.archives.gov/federal_register/code_of_federal_regulations/ibr_locations.html.

Issued in Kansas City, Missouri, on May 31, 2007.
David R. Showers,
Acting Manager, Small Airplane Directorate, Aircraft Certification Service.

[FR Doc. E7-10981 Filed 6-8-07; 8:45 am]

BILLING CODE 4910-13-P